FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's website (www.fmc.gov) or by contacting the Office of Agreements at (202)-523-5793 or tradeanalysis@fmc.gov.

Agreement No.: 201178-002.

Title: Los Angeles/Long Beach Port/Terminal Operator Administration and Implementation Agreement.

Parties: The West Coast MTO Agreement and its individual marine terminal operator members; The City of Los Angeles, acting by and through its Board of Harbor Commissioners; and The City of Long Beach, acting by and through its Board of Harbor Commissioners.

Filing Party: David F. Smith, Esq.; Cozen O'Conner; 1200 Nineteenth Street NW, Washington, DC 20036.

Synopsis: The amendment updates the membership of the Agreement.

By Order of the Federal Maritime Commission.
Dated: December 22, 2017.
Rachel E. Dickon,
Assistant Secretary.

[FR Doc. 2017-28097 Filed 12-27-17; 8:45 am]

BILLING CODE 6731-AA-P